DEPARTMENT OF COMMERCE

National Oceanic and Atmospheric Administration

RIN 0648-XA249

Gulf of Mexico Fishery Management Council; Public Meetings

AGENCY: National Marine Fisheries Service (NMFS), National Oceanic and Atmospheric Administration (NOAA), Commerce.

ACTION: Notice of a public meeting.

SUMMARY: The Gulf of Mexico Fishery Management Council (Council) will convene its Law Enforcement Advisory Panel in conjunction with the Gulf States Marine Fisheries Commission's Law Enforcement Committee.

DATES: The meeting will convene at 8:30 a.m. on Tuesday, March 15, 2011 and conclude no later than 12 noon.

ADDRESSES: The meeting will be held at the JW Marriott Houston, 5150 Westheimer Road, Houston, TX.

Council address: Gulf of Mexico Fishery Management Council, 2203 North Lois Avenue, Suite 1100, Tampa, FL 33607.

FOR FURTHER INFORMATION CONTACT: Dr. Richard Leard, Deputy Executive Director, Gulf of Mexico Fishery Management Council; telephone: (813) 348-1630.

SUPPLEMENTARY INFORMATION: The Gulf of Mexico Fishery Management Council will convene the Law Enforcement Advisory Panel along with the Gulf States Marine Fisheries Commission's Law Enforcement Committee to consider the status of recently completed amendments and other regulatory actions as well as the schedule for completion of ongoing actions. The two groups will also discuss and potentially make recommendations with regard to Joint Enforcement Agreements. A review and possible recommendations with regard to a recently published Proposed Rule to potentially reduce bycatch of bluefin tuna in the Gulf of Mexico will also be conducted. Finally, the two panels will review and discuss a proposal to potentially modify requirements for crew size on vessels that have both commercial and for-hire permits.

The Law Enforcement Advisory Panel consists of principal law enforcement officers in each of the Gulf States, as well as the National Oceanic and Atmospheric Administration (NOAA) Law Enforcement, U.S. Fish and Wildlife Service (FWS), the U.S. Coast Guard, and the NOAA General Counsel for Law Enforcement. A copy of the agenda and related materials can be obtained by calling the Council office at (813) 348-1630.

Although other non-emergency issues not on the agendas may come before the Law Enforcement Advisory Panel for discussion, in accordance with the Magnuson-Stevens Fishery Conservation and Management Act (Magnuson-Stevens Act), those issues may not be the subject of formal action during this meeting. Actions of the Law Enforcement Advisory Panel will be restricted to those issues specifically identified in the agendas and any issues arising after publication of this notice that require emergency action under Section 305(c) of the Magnuson-Stevens Act, provided the public has been notified of the Council's intent to take action to address the emergency.

Special Accommodations

This meeting is physically accessible to people with disabilities. Requests for sign language interpretation or other auxiliary aids should be directed to Kathy Pereira at the Council (see ADDRESSES) 5 working days prior to the meeting.

Dated: February 22, 2011.
Tracey L. Thompson,
Acting Director, Office of Sustainable Fisheries, National Marine Fisheries Service.

[FR Doc. 2011-4252 Filed 2-24-11; 8:45 am]

BILLING CODE 3510-22-P